ENVIRONMENTAL PROTECTION AGENCY

[EPA-R09-SFUND-2018-07; FRL-9977-39—Region 9]

Ecology Control Industries, Inc. Removal Site, Torrance, CA; Notice of Proposed Settlement Agreement and Order on Consent

AGENCY: Environmental Protection Agency (EPA).

ACTION: Notice of proposed settlement.

SUMMARY: This notice announces the availability for review and comment of a proposed administrative settlement agreement under the Comprehensive Environmental Response, Compensation, and Liability Act of 1980, as amended (“CERCLA”), between the U.S. Environmental Protection Agency (“EPA”), and Bridge Point South Bay II, LLC (“Bridge Point LLC”), regarding the Ecology Control Industries, Inc. Removal Site (“ECI Site”) in Torrance, California. The Settlement Agreement requires the purchaser to conduct a removal action to address soil contamination at the ECI Site.

DATES: Comments must be received on or before June 1, 2018.

ADDRESSES: Submit your comments, identified by Docket ID No. EPA-R09-SFUND-2018-07, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Xiao Zhang, Assistant Regional Counsel, Office of Regional Counsel (ORC-3), Environmental Protection Agency, Region 9, 75 Hawthorne Street, San Francisco, CA 94105; tel: (415) 972-3266; fax: (415) 947-3570; Zhang.Xiao@epa.gov.

SUPPLEMENTARY INFORMATION: Bridge Point LLC is agreeing to perform a removal action to address soils contaminated with the pesticide dichlorodiphenyl-trichloroethane (DDT). The removal action will reduce the risk to future users of the property and the surrounding community from exposure to contamination primarily caused by historical DDT manufacturing operations at a nearby plant. Under the terms of the settlement, Bridge Point LLC will complete the removal action and pay EPA's costs for oversight of the cleanup activities. In exchange, Bridge Point LLC will receive a covenant not to sue from the United States. EPA will consider all comments submitted by the date set forth above and may modify or withdraw its consent to the settlement if comments received disclose facts or considerations that indicate the proposed settlement is inappropriate, improper, or inadequate.

Dated: April 10, 2018.
Enrique Manzanilla,
Director, Superfund Division, U.S. Environmental Protection Agency, Region 9.

[FR Doc. 2018-09322 Filed 5-1-18; 8:45 am]

BILLING CODE 6560-50-P